DEPARTMENT OF THE INTERIOR

National Park Service

[NPS-WASO-NAGPRA-23210; PPWOCRADN0-PCU00RP14.R50000]

Notice of Inventory Completion: U.S. Department of the Interior, National Park Service, Lava Beds National Monument, Tulelake, CA

AGENCY: National Park Service, Interior.

ACTION: Notice.

SUMMARY: The U.S. Department of the Interior, National Park Service, Lava Beds National Monument has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to Lava Beds National Monument. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to Lava Beds National Monument at the address in this notice by July 3, 2017.

ADDRESSES: Lawrence J. Whalon Jr., Superintendent, Lava Beds National Monument, P.O. Box 1240, Tulelake, CA 96134, telephone (530) 677-8101, email larry_whalon@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Lava Beds National Monument, Tulelake, CA, and in the physical custody of the Phoebe A. Hearst Museum of Anthropology, University of California, Berkeley, CA. The human remains and associated funerary objects were removed from within the boundaries of Lava Beds National Monument, Modoc and Siskiyou Counties, CA.

This notice is published as part of the National Park Service's administrative responsibilities under NAGPRA, 25 U.S.C. 3003(d)(3). The determinations in this notice are the sole responsibility of the Superintendent, Lava Beds National Monument.

Consultation

A detailed assessment of the human remains was made by Lava Beds National Monument professional staff in consultation with representatives of the Klamath Tribes and The Modoc Tribe of Oklahoma.

History and Description of the Remains

In 1952, human remains representing, at minimum, two individuals were removed from site CA-SIS-0142 in Siskiyou County, CA, during legally authorized excavations by Robert J. Squier and Gordon L. Grosscup under the auspices of the Department of Anthropology, University of California, Berkeley, CA. No known individuals were identified. No associated funerary objects are present.

In 1952, human remains representing, at minimum, two individuals were removed from site CA-MOD-0048 in Modoc County, CA, during legally authorized excavations by Robert J. Squier and Gordon L. Grosscup under the auspices of the Department of Anthropology, University of California, Berkeley, CA. No known individuals were identified. No associated funerary objects are present.

In 1952, human remains representing, at minimum, 14 individuals were removed from site CA-MOD-0049 in Modoc County, CA, during legally authorized excavations by Robert J. Squier and Gordon L. Grosscup under the auspices of the Department of Anthropology, University of California, Berkeley, CA. No known individuals were identified. The 15 associated funerary objects are 3 cordage fragments, 1 projectile point fragment, 2 scrapers, 3 basketry fragments, 1 charcoal fragment, and 5 matting fragments.

Based on burial type and location, as well as available archeological and historical information, it is likely that the remains are Native American. Artifacts found near the burial locations suggest a late prehistoric age and are characteristic of prehistoric Modoc funerary practices in this region. In addition, ethnographic and archeological evidence, including archeological site context and types of funerary objects, indicates that all three sites were occupied by ancestral Modoc peoples.

During consultation, representatives from associated tribes stated that their oral traditions indicate affiliation with the Modoc. The Modoc have been identified as aboriginal to the area where the three sites are located by the U.S. Indian Claims Commission. Geographical, archeological, linguistic, folklore, oral tradition, and historical evidence support that association. Today, contemporary descendants of the Modoc are members of both the Klamath Tribes and The Modoc Tribe of Oklahoma.

Determinations Made by Lava Beds National Monument

Officials of Lava Beds National Monument have determined that:

• Pursuant to 25 U.S.C. 3001(9), the human remains described in this notice represent the physical remains of 18 individuals of Native American ancestry.

• Pursuant to 25 U.S.C. 3001(3)(A), the 15 objects described in this notice are reasonably believed to have been placed with or near individual human remains at the time of death or later as part of the death rite or ceremony.

• Pursuant to 25 U.S.C. 3001(2), there is a relationship of shared group identity that can be reasonably traced between the Native American human remains and associated funerary objects and the Klamath Tribes and The Modoc Tribe of Oklahoma.

Additional Requestors and Disposition

Lineal descendants or representatives of any Indian tribe or Native Hawaiian organization not identified in this notice that wish to request transfer of control of these human remains and associated funerary objects should submit a written request with information in support of the request to Lawrence J. Whalon Jr., Superintendent, Lava Beds National Monument, P.O. Box 1240, Tulelake, CA 96134, telephone (530) 677-8101, email larry_whalon@nps.gov, by July 3, 2017. After that date, if no additional requestors have come forward, transfer of control of the human remains and associated funerary objects to the Klamath Tribes and The Modoc Tribe of Oklahoma may proceed.

Lava Beds National Monument is responsible for notifying the Klamath Tribes and The Modoc Tribe of Oklahoma that this notice has been published.

Dated: April 3, 2017.
Melanie O'Brien,
Manager, National NAGPRA Program.

[FR Doc. 2017-11454 Filed 6-1-17; 8:45 am]

BILLING CODE 4312-52-P